DEPARTMENT OF TRANSPORTATION

Federal Aviation Administration

Public Notice of Intent To Release Grant Acquired Property at the Opa-Locka Airport, Miami-Dade County, FL

AGENCY: Federal Aviation Administration (FAA), DOT.

ACTION: Request for public comment.

SUMMARY: The Federal Aviation Administration is requesting public comment on the Miami-Dade Aviation Department (MDAD) request to release a portion of airport property, ±4,314 square feet, for other than aeronautical purposes.

The Property Location

South of Tract 13 along the northern boundary of Opa-Locka Airport across the Biscayne Drainage Canal that parallel Runway 9L/27R. It is more specifically located on the west side of NW 4th Court approximately 350 feet south of NW 157th Street and 170 feet north of theoretical NW 155 Terrace.

The Property is part of Parcel 4 and is currently vacant. It was acquired by the MDAD with Federal participation under Federal aid projects (FAAP 9-08-054-D2014-D603) to satisfy airport development and runway protection requirements for current Runway 9L/27R.

The property will be disposed of for the purpose of selling it to the adjacent property owner who desires to increase his residential lot size.

The fair market value of the property has been determined by appraisal to be $17,000,00. The airport will receive fair market value for the property, and will subsequently reinvest it in an eligible airport improvement project at the Opa-Locka Airport and/or returned to the Trust fund.

Documents reflecting the Sponsor's request are available, by appointment only, for inspection of the Miami-Dade Aviation Department (MDAD), Office of the Manager for Development and at the Orlando FAA Airports District Office.

DATES: Comments must be received on or before June 12, 2006.

ADDRESSES: Documents are available for review, at the MDAD Manager of Development, Miami International Airport, Miami-Dade County Aviation Department, Mr. Sunil Harman, 4200 NW. 36th Street, Building 5A, Suite 400, Miami, Florida 33122, telephone (305) 876-7090 and at the FAA Orlando Airports District Office, Ilia A. Quinones, 5950 Hazeltine National Drive, Suite 400, Orlando, Florida 32822 and telephone number (407) 812-6331. Written comments on the Sponsor's request must be delivered or mailed, in duplicate to Ilia A. Quinones, Program Manager, 5950 Hazeltine National Drive, Suite 400, Orlando, Florida 32822, telephone number (407) 812-6331.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Items to address:

• Property location.

Begin at the southeast corner of the North 320 feet of the East ½ of Tract 13, Venetian Gardens, as recorded in Plat Book 31 at Page 37 of the public records of Miami-Dade County, Florida; thence run S00°48′15″W along the East line of said Tract 13 and the Opa-Locka Airport property line for 39.97 feet; thence run N89°10′55″W along the westerly extension of the South line of the North 360 feet of Tract 15 of said Venetian Gardens for 108.68 feet; thence run N00°49′49″E along the West line of the East ½ of said Tract 13 for 39.84 feet; thence run S89°14′33″E along the South line of the North 320 feet of the East ½ of said Tract 13 and the Opa-Locka Airport property line for 107.54 feet to the point of beginning.

Containing 4.314 SF or 0.10 acre.

• Property's existing aeronautical use.

The subject property is part of a larger parcel of land (Parcel 4) that was acquired with Federal participation under Federal-aid Projects (FAAP-9-08-054-D2014-D603) for airport development and runway protection requirements. The land is vacant and appears to be a remnant located outside of the airport building restriction line of Runway 9L/27R.

• Sponsor's proposed non-aeronautical use.

The purpose for this release of land is to facilitate the transfer of this property to the adjacent property owner who desires to increase his residential lot size.

FOR FURTHER INFORMATION CONTACT: Ilia A. Quinones, Program Manager, Orlando Airports District Office, 5950 Hazeltine National Drive, Suite 400, Orlando, FL 32822-5024.

Bart Vernace,
Acting Manager, Orlando Airports District Office, Southern Region.

[FR Doc. 06-4476 Filed 5-11-06; 8:45 am]

BILLING CODE 4910-13-M